DEPARTMENT OF ENERGY

Federal Energy Regulatory Commission

[Docket No. CP00-59-000]

Petal Gas Storage Company; Notice of Meeting

February 4, 2000.

On February 10, 2000, the Commission staff will meet with Petal Gas Storage Company (Petal). This meeting is in response to Petal's February 2, 2000 letter requesting a meeting with Commission staff to discuss a proposed amendment to Petal's pending application in the above referenced proceeding. In its letter Petal states that the proposed amendment would reduce the amount of facilities to be constructed. The meeting will commence at 2:00 PM, in room 72-76 at the Commission's headquarters, 888 First Street NE, Washington, DC.

Linwood A. Watson, Jr.,
Acting Secretary.

[FR Doc. 00-3043 Filed 2-9-00; 8:45 am]

BILLING CODE 6717-01-M